NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 11, 2000. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Forest Service (N1-95-99-1, 15 items, 5 temporary items). Older records of various Forest Service components accumulated prior to the 1980s. Included are correspondence files documenting such matters as the development and distribution of cartographic products and the location of boundary lines between Federal property and private lands, regional quarterly reports concerning timber cutting, and reference copies of reports issued by other agencies concerning land utilization and resettlement. Proposed for permanent retention are the program records of such agency components as the Division of Recreation and Lands, the Division of Fire Control, and the Division of Timber Management as well as correspondence, reports, and other records concerning buildings, water, sanitation, the Naval Stores Conservation Program, the development of the Timber Management Reporting System, multiple uses of Forest Service land, and Native American claims.

2. Department of the Air Force, Agency-wide (N1-AFU-00-3, 2 items, 2 temporary items). Electronic copies of documents created using electronic mail and word processing that relate to personal interviews to determine enlistment eligibility. This schedule also increases the retention period for recordkeeping copies of these files, which were previously approved for disposal.

3. Department of the Air Force, Agency-wide (N1-AFU-00-4, 2 items, 2 temporary items). Electronic copies of documents created using electronic mail and word processing that relate to leave orders authorizing emergency or special leave for overseas personnel. This schedule also increases the retention period for recordkeeping copies of these files, which were previously approved for disposal.

4. Department of the Army, Office of the Chief of Transportation (N1-336-98-1, 3 items, 3 temporary items). Older records accumulated between 1941 and 1960. Included are records relating to fiscal matters, personnel actions, procurement of supplies, freight ratings and classifications, bills of lading, and the shipment of goods and equipment. Also included are reference copies of the Department of the Army's annual reports to Congress and files relating to proposed revisions of regulations.

5. Department of Defense, Defense Finance and Accounting Service (N1-507-00-1, 7 items, 7 temporary items). Records relating to manpower authorization data and commercial activity programs, including electronic copies of documents created using electronic mail and word processing. Manpower records include documentation of workforce spaces and instructions that authorize, limit, increase, or decrease personnel allocations. Commercial activity program records include feasibility studies, reviews of functions, cost analyses, justifications, approvals, proposals, and annual inventories.

6. Department of Health and Human Services, Assistant Secretary for Management and Budget (N1-468-99-5, 5 items, 5 temporary items). Electronic records created by the Employee Assistance Program. Records include interviews, information on interventions with employees who use the program, planning files, and administrative files. Also included are electronic copies of records created using electronic mail and word processing.

7. Department of Health and Human Services, Assistant Secretary for Management and Budget (N1-468-99-6, 5 items, 5 temporary items). Paper and electronic records pertaining to incidents involving violence in the workplace. Files include data concerning specific incidents, such as demographic information and descriptions of events, as well as information on the overall policies, procedures, and activities of the agency team responsible for the program. Also included are electronic copies of records created using electronic mail and word processing.

8. Department of Health and Human Services, Public Health Service (N1-90-00-2, 2 items, 2 temporary items). Older records accumulated during the period 1948 to 1967. Records pertain to grants given to hospitals and the monitoring of construction projects financed by the grants and to the administration of Public Health Service hospitals, clinics, and research facilities, including such matters as equipment purchases, budget and finance, and personnel management.

9. Department of Housing and Urban Development, Office of Federal Housing Enterprise Oversight (N1-543-00-1, 24 items, 23 temporary items). Records accumulated by the Office of Information Technology. Included are such records as electronic records systems used to maintain information concerning agency files in all media, information security program files, chronological files of correspondence with the Federal National Mortgage Association, financial submissions in paper and electronic formats from government-sponsored enterprises, files relating to the operation of agency local area networks, and an electronic system containing data on assets and liabilities of government-sponsored enterprises. Also included are electronic copies of records created using electronic mail and word processing. Directives, operating manuals, and other procedural issuances relating to agency program functions are proposed for permanent retention. Notice of this schedule was previously published in the Federal Register on March 22, 2000. It is being re-published due to minor changes occasioned by an agency reorganization.

10. Department of Housing and Urban Development, Office of Federal Housing Enterprise Oversight (N1-543-00-5, 24 items, 17 temporary items). Records accumulated by the Office of Risk Analysis and Model Development, including paper and electronic records and electronic copies of documents created using electronic mail and word processing. Included are such records as tracking systems used to document actual and proposed changes to financial simulation models, chronological files, selected research files and subject files, and records relating to the design and development of financial simulation models. Records proposed for permanent retention include recordkeeping copies of the Financial Simulation Model System used to simulate the financial performance of government-sponsored enterprises under varying economic assumptions, Capital Classification Letters issued quarterly concerning the capital levels of government-sponsored enterprises, and selected research files and subject files.

11. Department of Housing and Urban Development, Office of Federal Housing Enterprise Oversight (N1-543-00-6, 35 items, 26 temporary items). Records accumulated by the Office of External Relations, Congressional and Public Affairs, including paper and electronic records and electronic copies of documents created using electronic mail and word processing. Included are such records as copies of bills introduced in Congress that are of interest to the agency, files relating to hearings that do not relate to the agency, subject files, a mailing list system used for electronic distribution of news releases, press packets, and files relating to the agency's web site. Series proposed for permanent retention include recordkeeping copies of congressional correspondence, files on congressional hearings that relate to the agency, annual reports to Congress, publications, news releases, photograph albums, videotapes, and speeches and biographies of high-level agency officials.

12. Department of Housing and Urban Development, Office of Federal Housing Enterprise Oversight (N1-543-00-7, 3 items, 3 temporary items). Records accumulated by the Office of Finance and Administration/Procurement and Facilities, including paper and electronic records and electronic copies of documents created using electronic mail and word processing. Records consist of publications acquisition lists and related records used to track renewals of subscriptions to periodicals for agency offices.

13. Department of Housing and Urban Development, Office of Federal Housing Enterprise Oversight (N1-543-00-9, 9 items, 8 temporary items). Records accumulated by the Office of Finance and Administration/Associate Director and Deputy Associate Director, including paper and electronic records and electronic copies of documents created using electronic mail and word processing. Included are such records as a quarterly performance tracking system, selected subject files, and chronological files. Proposed for permanent retention are recordkeeping copies of subject files containing annual Federal Managers Financial Integrity Act reports, strategic plans, performance plans, and quarterly performance reports.

14. Department of Housing and Urban Development, Office of Federal Housing Enterprise Oversight (N1-543-00-10, 2 items, 2 temporary items). Records accumulated by the Office of Finance and Administration/Human Resources, consisting of a database, with related documentation, pertaining to job announcements issued by the agency and applicants for positions.

15. Department of Housing and Urban Development, Office of Federal Housing Enterprise Oversight (N1-543-00-11, 13 items, 13 temporary items). Records accumulated by the Office of Examination and Oversight, including paper and electronic records and electronic copies of documents created using electronic mail and word processing. Included are such records as data and spreadsheets concerning the financial performance of government-sponsored enterprises under agency oversight, files relating to agency reviews of the soundness of enterprises, publications concerning earnings and other aspects of the business activities of enterprises, and subject and chronological files.

16. Department of Transportation, Office of Inspector General (N1-398-00-1, 5 items, 5 temporary items). Files relating to investigations of known or alleged fraud, abuse, irregularities, and violations of laws and to internal and external audits of agency operations, including audit working papers. Also included are electronic copies of documents created using word processing and electronic mail. Record-keeping copies of significant cases will be evaluated by NARA on a case-by-case basis.

17. Department of Veterans Affairs, Veterans Health Administration (N1-15-00-3, 5 items, 5 temporary items). Paper and electronic records pertaining to individuals who apply to become volunteers at agency health care facilities. Included are application forms, electronic data maintained at health care facilities and at the agency's automation center, summary reports and outputs, and electronic copies of documents created using electronic mail and word processing.

18. Bonneville Power Administration, Information Services, (N1-305-99-1, 8 items, 8 temporary items). Paper and electronic records relating to the agency's Y2K program. Included are system verification forms, correspondence, reports, presentations, and electronic copies of documents created using electronic mail and word processing.

19. Farm Credit Administration, Agency-wide (N1-103-99-2, 19 items, 13 temporary items). Audit case files, audits of agency administrative activities, investigative case files, minutes of meetings that are administrative or informational in nature, and computer user account records. Also included are electronic copies of records created using electronic mail and word processing that are associated with investigations, audits, meetings, and votes of the Farm Credit Administration (FCA) Board. Proposed for permanent retention are recordkeeping copies of significant investigative case files, audit reports pertaining to agency program activities, and minutes of meetings that pertain to substantive matters. This schedule also modifies transfer instructions for certain records which were previously approved for permanent retention, including FCA Board meeting briefing books, notational votes of the FCA Board, and an electronic system containing data concerning Farm Credit System institutions.

20. Railroad Retirement Board, Bureau of Fiscal Operations (N1-184-00-1, 4 items, 4 temporary items). Railroad Employer Compliance Audit Case Files that pertain to employer compliance with the Railroad Retirement Act and the Railroad Unemployment Insurance Act. Included are reports, correspondence, working papers, and electronic copies of documents created using electronic mail and word processing.

21. Railroad Retirement Board, Office of the Inspector General (N1-184-00-2, 7 items, 7 temporary items). Records relating to investigations and audits. Included are case files, an automated case tracking system, and electronic copies of documents created using electronic mail and word processing.

Dated: June 21, 2000.
Michael J. Kurtz,
Assistant Archivist for Record Services—Washington, DC.

[FR Doc. 00-16192 Filed 6-26-00; 8:45 am]

BILLING CODE 7515-01-P